NATIONAL SCIENCE FOUNDATION

National Science Board and Its Subdivisions; Sunshine Act Meetings

Federal Register Citation of Previous Announcement: Volume 68, Number 96, Federal Register, pages 27112-27113, May 19, 2003.

Previously Announced Date and Time: Thursday, May 22, 2003.

Closed

Committee on Programs and Plans (8 a.m.-10 a.m.), Room 1235.

Plenary Session of the Board (12 noon-1 p.m.), Room 1235.

Open

Committee on Programs and Plans (10:05 a.m.-11:15 a.m.), Room 1235.

Plenary Session of the Board (1 p.m.-3:30 p.m.), Room 1235.

Place: The National Science Foundation, 4201 Wilson Boulevard, Arlington, VA 22230. www.nsf.gov/nsb.

Status: Part open and part closed (change).

Contact for Information: NSF Information Center (703) 292-5111.

Changes in the Meeting: The following item was moved from open to closed session of the Committee on Plans and Programs and the Plenary Session of the National Science Board by unanimous vote of the Board. The Board determined that its business required this change. Public announcement of this change was provided on the NSF Web site; no earlier notice was possible.

NSB Information Item: Division of Atmospheric Sciences.

Cathy Hines,
Operations Officer.

[FR Doc. 03-13610 Filed 5-27-03; 4:56 pm]

BILLING CODE 7555-01-M